DEPARTMENT OF LABOR

Employment and Training Administration

[NAFTA-2669-2669A]

Mitchell Manufacturing Group, a Lamont Group Company; Clare and Owosso, MI; Amended Notice of Revised Determination on Reconsideration

In accordance with Section 250(a), Subchapter D, Chapter 2, Title II, of the Trade Act of 1974, as amended (19 U.S.C. 2273), on March 9, 1999, the Department of Labor issued a Notice of Revised Determination on Reconsideration, applicable to all workers of Mitchell Manufacturing Group, A Lamont Company, located in Clare, Michigan. The notice was published in the Federal Register on March 30, 1999 (64 FR 15172).

At the request of the State agency, the Department reviewed the certification for workers of the subject firm. Information provided by the State shows that worker separations occurred at the Lamont Group's sister plant, the Owosso Division, Owosso, Michigan. The workers provided support services to the Clare, Michigan plant, and were engaged in employment related to the production of automotive soft trim.

The intent of the Department's certification is to include all workers of Mitchell Manufacturing Group, A Lamont Group Company, adversely affected by increased imports from Mexico. Therefore, the Department is amending the certification to cover workers at the subject firm in Owosso, Michigan, engaged in employment related to the production of automotive trim.

The amended notice applicable to NAFTA-2669 is hereby issued as follows:

All workers of Mitchell Manufacturing Group, A Lamont Group Company, Clare, Michigan, and workers of Mitchell Manufacturing Group, A Lamont Group Company, Owosso Division, Owosso, Michigan, engaged in employment related to the production of automotive trim, who became totally or partially separated from employment on or after October 2, 1997 through March 9, 2001, are eligible to apply for NAFTA-TAA under Section 250 of the Trade Act of 1974.

Signed at Washington, DC this 31st day of January 2001.
Linda G. Poole,
Certifying Officer, Division of Trade Adjustment Assistance.

[FR Doc. 01-3295 Filed 2-7-01; 8:45 am]

BILLING CODE 4510-30-M